DEPARTMENT OF ENERGY

Federal Energy Regulatory Commission

[Docket No. RM10-13-000]

Credit Reforms in Organized Wholesale Electric Markets; Notice of Agenda for Technical Conference

May 5, 2010.

As announced in the Notice of Technical Conference issued on April 15, 2010, Commission staff will hold a technical conference on May 11, 2010. The purpose of this conference is to discuss the proposal in the Credit Reforms in Organized Wholesale Electric Markets Notice of Proposed Rulemaking¹ regarding whether Independent System Operator (ISO)/Regional Transmission Operators (RTOs) should adopt certain tariff revisions to clarify their status as a party to each transaction so as to eliminate ambiguity regarding their ability to “set-off” market obligations and whether this proposal will have additional ramifications. The conference will be held from 9 a.m. to 12:30 p.m. (EDT), in the Commission Meeting Room at the Federal Energy Regulatory Commission, 888 First Street, NE., Washington, DC. All interested persons are invited to attend, and registration is not required.

¹ Credit Reforms in Organized Wholesale Electric Markets, 130 FERC ¶ 61,055 (2010).

The agenda is attached. There will be two panels. The first panel will discuss the issue from the perspective of the ISO/RTO as market administrator but will also include the perspective of regulatory oversight in related markets. The second panel will discuss the issue from both a market participant perspective and a legal perspective.

As previously announced, a free webcast of this event will be available. Anyone with internet access who desires to view this event can do so by navigating http://www.ferc.gov's Calendar of Events and locating this event in the Calendar. The event will contain a link to its webcast. The Capitol Connection provides technical support for the webcasts and offers the option of listening to the meeting by a phone-bridge for a fee. If you have any questions, visit http://www.CapitolConnection.org or call 703-993-3100.

This conference will be transcribed. Transcripts of the meeting will be available immediately for a fee from Ace Reporting Company (202-347-3700 or 1-800-336-6646). Commission conferences are accessible under section 508 of the Rehabilitation Act of 1973. For accessibility accommodations, please send an e-mail to accessibility@ferc.gov or call 1-866-208-3372 (voice) or 202-208-1659 (TTY), or send a fax to 202-208-2106 with required accommodations.

For more information, please contact Sarah McKinley, 202-502-8368, sarah.mckinley@ferc.gov, for logistical issues, and Scott Miller, 202-502-8456, scott.miller@ferc.gov, or Christina Hayes 202-502-6194, christina.hayes@ferc.gov, for other concerns.

Kimberly D. Bose,
Secretary.

Notice of Proposed Rulemaking on Credit Reforms in Organized Electric Markets May 11, 2010 Commission Meeting Room

Agenda

9-9:05 a.m.: Welcome and Administrative Details by Commission Staff.

9:05-10:35 a.m.: Panel I Market Administrator Perspective.

Panelists

Vincent Duane, General Counsel and Vice President, PJM Interconnection, L.L.C.;

Michael Holstein, Chief Financial Officer, Midwest Independent Transmission System Operator, Inc.;

Daniel J. Shonkwiler, Senior Counsel, California Independent System Operator Corporation;

Ananda K. Radhakrishnan, Director, Division of Clearing and Intermediary Oversight, Commodity Futures Trading Commission.

10:35-11 a.m.: Break.

11-12:30 p.m.: Panel II Market and Legal Perspectives.

Panelists

Alex Catto, Kirkland & Ellis LLP, on behalf of the Committee of Chief Risk Officers;

Harold S. Novikoff, Wachtell, Lipton, Rosen & Katz;

Stephen J. Dutton, Barnes & Thornburg;

Todd Brickhouse, Vice President—Treasurer, Old Dominion Electric Cooperative.

[FR Doc. 2010-11534 Filed 5-13-10; 8:45 am]

BILLING CODE 6717-01-P